DEPARTMENT OF THE INTERIOR

Fish and Wildlife Service

50 CFR Part 17

[4500030115]

Endangered and Threatened Wildlife and Plants; 90-Day Findings on Two Petitions

AGENCY: Fish and Wildlife Service, Interior.

ACTION: Notice of petition findings.

SUMMARY: We, the U.S. Fish and Wildlife Service (Service), announce 90-day findings on two petitions to list or reclassify wildlife or plants under the Endangered Species Act of 1973, as amended (Act). Based on our review, we find that the petitions do not present substantial scientific or commercial information indicating that the petitioned action may be warranted, and we are not initiating status reviews in response to those petitions. We refer to these findings as “not-substantial” petition findings.

DATES: These findings were made on April 19, 2017.

ADDRESSES: Summaries of the bases for the not-substantial petition findings contained in this document are available on http://www.regulations.gov under the appropriate docket number (see Table 1 under SUPPLEMENTARY INFORMATION). Supporting information in preparing these findings is available for public inspection, by appointment, during normal business hours by contacting the appropriate person, as specified in Table 3 under SUPPLEMENTARY INFORMATION. If you have new information concerning the status of, or threats to, the species for which we made not-substantial petition findings (listed below in Table 1), or their habitats, please submit that information to the person listed in Table 3 under SUPPLEMENTARY INFORMATION.

FOR FURTHER INFORMATION CONTACT: See Table 3 under SUPPLEMENTARY INFORMATION for specific people to contact for each species.

SUPPLEMENTARY INFORMATION:

Background

Section 4 of the Act (16 U.S.C. 1533) and its implementing regulations in title 50 of the Code of Federal Regulations set forth the procedures for adding a species to, or removing a species from, the Federal Lists of Endangered and Threatened Wildlife and Plants (50 CFR part 424). Section 4(b)(3)(A) of the Act requires that we make a finding on whether a petition to list, delist, or reclassify a species presents substantial scientific or commercial information indicating that the petitioned action may be warranted. To the maximum extent practicable, we are to make this finding within 90 days of our receipt of the petition and publish the finding promptly in the Federal Register.

Last year, the Service and the National Marine Fisheries Service of the Department of Commerce revised the regulations that outline the procedures for evaluating petitions (81 FR 66462; September 27, 2016). The new regulations at 50 CFR 424.14 were effective October 27, 2016. We received the petitions referenced in this document prior to that effective date. Therefore, we evaluated these petitions under the 50 CFR 424.14 requirements that were in effect prior to October 27, 2016, as those requirements applied when the petitions were received. The regulations in effect prior to October 27, 2016, establish that the standard for substantial scientific or commercial information with regard to a 90-day petition finding is “that amount of information that would lead a reasonable person to believe that the measure proposed in the petition may be warranted” (former 50 CFR 424.14(b)).

A species may be determined to be an endangered or threatened species because of one or more of the five factors described in section 4(a)(1) of the Act. In considering whether conditions described within one or more of the factors might constitute threats, we must look beyond the exposure of the species to those conditions to evaluate whether the species may respond to the conditions in a way that causes actual impacts to the species. If there is exposure to a condition and the species responds negatively, the condition qualifies as a stressor and, during the subsequent status review, we attempt to determine how significant the stressor is. If the stressor is sufficiently significant that it drives, or contributes to, the risk of extinction of the species such that the species may warrant listing as endangered or threatened as those terms are defined in the Act, the stressor constitutes a threat to the species. Thus, the identification of conditions that could affect a species negatively may not be sufficient to compel a finding that the information in the petition and our files is substantial. The information must include evidence sufficient to suggest that these conditions may be operative threats that individually or cumulatively act on the species to a sufficient degree that the species may meet the definition of an endangered or threatened species under the Act.

If we find that a petition presents substantial scientific or commercial information, we are required to promptly commence a review of the status of the species, and we will subsequently summarize the status review in a 12-month finding.

Summaries of Petition Findings

The not-substantial petition findings contained in this document are listed in Table 1 and the bases for the findings, along with supporting information, are available on http://www.regulations.gov under the appropriate docket number.

Table 1—Not-Substantial Findings
Common name | Docket No. | URL to docket on http://www.regulations.gov
Florida black bear | FWS-R4-ES-2017-0015 | http://www.regulations.gov/docket?D=FWS-R4-ES-2017-0015
Mojave population of the desert tortoise | FWS-R8-ES-2017-0009 | http://www.regulations.gov/docket?D=FWS-R8-ES-2017-0009

Evaluation of a Petition To List the Florida Black Bear as a Threatened or Endangered Species Under the Act

Species and Range

Florida black bear (Ursus americanus floridanus): Florida, Georgia, and Alabama.

Petition History

On March 18, 2016, we received a petition dated March 17, 2016, from the Center for Biological Diversity, Animal Legal Defense Fund, Animal Hero Kids, Animal Rights Foundation of Florida, Animal Welfare Institute, Big Cat Rescue, Guillaume Chapron, Compassion Works International, Environmental Action, The Humane Society of the United States, Jungle Friends Primate Sanctuary, Miha Krofel, The League of Women Voters of Florida, Lobby for Animals, Paul C. Paquet, Stuart Pimm, Preserve Our Wildlife, Sierra Club Florida Chapter, South Florida Wildlands Association, Speak Up Wekiva, Stop the Florida Bear Hunt, Adrian Treves, John A. Vucetich, and Robert Wielgus requesting that the Florida black bear be listed as a threatened or endangered species under the Act. The petition clearly identified itself as such and included the requisite identification information for the petitioners, required at former 50 CFR 424.14(a). This finding addresses the petition.

Finding

Based on our review of the petition and sources cited in the petition, we find that the petition does not present substantial scientific or commercial information indicating that listing the Florida black bear may be warranted. Because the petition does not present substantial information indicating that listing the Florida black bear may be warranted, we are not initiating a status review of this species in response to this petition. However, we ask that the public submit to us any new information that becomes available concerning the status of, or threats to, this species or its habitat at any time (see Table 3, below).

The basis for our finding on this petition, and other information regarding our review of this petition, can be found as an appendix at http://www.regulations.gov under Docket No. FWS-R4-ES-2017-0015 under the Supporting Documents section.

Evaluation of a Petition To Reclassify the Mojave Population of the Desert Tortoise as an Endangered Species Under the Act

Species and Range

Desert tortoise (Gopherus agassizii) (Mojave population): Arizona, California, Nevada, and Utah.

The Mojave population of the desert tortoise was listed as a threatened species on April 2, 1990 (55 FR 12178).

Petition History

On July 2, 2002, we received a petition dated June 28, 2002, from Mr. Craig Dremann requesting that the threatened Mojave population of the desert tortoise be emergency reclassified as endangered under the Act. The petition clearly identified itself as such and included the requisite identification information for the petitioner, required at former 50 CFR 424.14(a). This finding addresses the petition.

Finding

Based on our review of the petition and sources cited in the petition, we find that the petition does not present substantial scientific or commercial information indicating that reclassifying the Mojave population of the desert tortoise may be warranted. Because the petition does not present substantial information indicating that reclassifying the Mojave population of the desert tortoise may be warranted, we are not initiating a status review of this species in response to this petition. However, we ask that the public submit to us any new information that becomes available concerning the status of, or threats to, this species or its habitat at any time (see Table 3, below).

The basis for our finding on this petition, and other information regarding our review of this petition can be found as an appendix at http://www.regulations.gov under Docket No. FWS-R8-ES-2017-0009 under the Supporting Documents section.

Contacts

Contact information is provided below in Table 3 for the not-substantial findings.

Table 3—Contacts
Common name | Contact person
Florida black bear | Andreas Moshogianis, 404-679-7119; andreas_moshogianis@fws.gov
Mojave population of the desert tortoise | Arnold Roessler, 916-414-6613; arnold_roessler@fws.gov

If you use a telecommunications device for the deaf (TDD), please call the Federal Relay Service (FIRS) at 800-877-8339.

Conclusion

On the basis of our evaluation of the information presented in the petitions under section 4(b)(3)(A) of the Act, we have determined that the petitions referenced above for the Florida black bear and the Mojave population of the desert tortoise do not present substantial scientific or commercial information indicating that the requested actions may be warranted. Therefore, we are not initiating status reviews for these species.

Authors

The primary authors of this notice are staff members of the Ecological Services Program, U.S. Fish and Wildlife Service.

Authority

The authority for these actions is the Endangered Species Act of 1973, as amended (16 U.S.C. 1531 et seq.).

Dated: April 10, 2017.
James W. Kurth,
Acting, Director, U.S. Fish and Wildlife Service.

[FR Doc. 2017-07942 Filed 4-18-17; 8:45 am]

BILLING CODE 4333-15-P